DEPARTMENT OF ENERGY

Federal Energy Regulatory Commission

[Project No. 2744-043]

N.E.W. Hydro, Inc.; Notice of Application Accepted for Filing, Soliciting Motions To Intervene and Protests, Ready for Environmental Analysis, and Soliciting Comments, Recommendations, Terms and Conditions, and Prescriptions

Take notice that the following hydroelectric application has been filed with the Commission and is available for public inspection.

a. Type of Application: New Major License.

b. Project No.: 2744-043.

c. Date filed: February 28, 2013.

d. Applicant: N.E.W. Hydro, Inc.

e. Name of Project: Menominee/Park Mill Hydroelectric Project.

f. Location: The existing project is located on the Menominee River, in the city of Menominee, Menominee County, Michigan, and in the city of Marinette, Marinette County, Wisconsin. The project does not affect federal lands.

g. Filed Pursuant to: Federal Power Act 16 U.S.C. 791(a)-825(r).

h. Applicant Contact: Scott Klabunde, North American Hydro Holdings, LLC, P.O. Box 167, Neshkoro, WI 54960-0167; Telephone (920) 293-4628 Ext. 314.

i. FERC Contact: Chelsea Hudock, Telephone (202) 502-8448, and email at chelsea.hudock@ferc.gov.

j. Deadline for filing motions to intervene, protests, comments, recommendations, terms and conditions, and prescriptions: 60 days from the issuance date of this notice; reply comments are due 105 days from the issuance date of this notice.

The Commission strongly encourages electronic filing. Please file motions to intervene, protests, comments, recommendations, terms and conditions, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2744-043.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now is ready for environmental analysis.

l. The Menominee-Park Mill Project consists of two developments: The Menominee Development and the Park Mill Development. The applicant proposes no new changes to project operation at either development as part of relicensing the project. The centerline of the Menominee River constitutes the common border between Michigan and Wisconsin. The Menominee powerhouse is located on the Michigan side of the Menominee River whereas the powerhouse for the Park Mill development is located on the Wisconsin side of the Menominee River. The project is estimated to generate an average of 28 million kilowatt-hours annually.

Park Mill Development

The Park Mill Development consists of the following existing features: (1) A 538.58-foot-long, 22-foot-high, concrete gravity dam that includes, a 48.5-foot-long overflow spillway with a crest elevation of 607.93 feet National Geodetic Vertical Datum (NGVD), topped with flashboards providing a crest elevation of 610.93 feet NGVD; a 168.58-foot-long spillway with seven 20-foot-wide by 13-foot-high Tainter gates with a sill elevation of 597.23 feet NGVD and a top of gate elevation 610.93 feet NGVD; an 18-foot-long abandoned fishway having a crest elevation of 610.93 feet NGVD; and a 303.5-foot-long overflow spillway with a crest elevation of 607.93 feet NGVD, topped with flashboards providing a crest elevation of 610.93 feet NGVD; (2) a reservoir with a normal operating elevation of 610.43 feet NGVD, a surface area of about 539 acres, a gross storage of 3,788 acre-feet, and a hydraulic height of 16 feet; (3) inlet works that consist of a 100-foot-wide concrete gravity section with five 16-foot-wide by 16-foot-high Tainter gates having a sill elevation of 595.23 feet NGVD and a top of gate elevation of 611.23 feet NGVD; and a 77.84-foot-long side overflow spillway with a crest elevation of 610.13 NGVD, topped with flashboards providing a crest elevation of 611.13 feet NGVD; (4) a 2,400-foot-long power canal that is created by an earthen embankment with a 16-foot top width and a crest elevation of 613 feet NGVD; (5) angled trashracks that are 80 feet long by 20 feet high with 1.75 inch clear bar spacing; (6) a 169-foot-long, 62-foot-wide stone and brick powerhouse at the downstream end of the headrace canal with a total installed capacity of 2.375 megawatts (MW), consisting of one 300-horsepower (HP) Kaplan turbine connected to a 0.225-MW generator, two 800-HP Francis turbines each connected to a 0.420-MW generator, two 700-HP Kaplan turbines each connected to a 0.430-MW generator, one 465-HP Kaplan turbine connected to a 0.450-MW generator; (7) a 3-phase 3,000-kilovolt ampere (kVA), 0.48/24.9-kilovolt (kV) step-up transformer; (8) a 4,630-foot-long, 24.9-kV transmission line from the Park Mill transformer to its interconnection with Wisconsin Public Service Corporation (WPSC); and (9) appurtenant facilities. As part of a Commission-approved amendment of its current license, the applicant is currently modifying the Park Mill development by installing fish passage facilities.

Menominee Development

The Menominee Development consists of the following existing features: (1) A 466.5-foot-long, 24-foot-high, concrete gravity dam that includes, an 8-foot-long abandoned fishway having a crest elevation of 593.93 feet NGVD; a 150.5-foot-long overflow spillway with a crest elevation of 593.93 feet NGVD; a 293-foot-long spillway with 12 20-foot-wide by 12-foot-high Tainter gates with a sill elevation of 582.43 feet and a top of gate elevation 594.43 feet NGVD; and a 15-foot-long dam with a crest elevation of 598.43 feet NGVD; (2) a 20-foot-long earthen embankment with a concrete core wall connected to the concrete dam at the south end of the dam; (3) a reservoir with a normal operating elevation of 593.53 feet NGVD, a surface area of about 143 acres, a normal operating head of 12 feet, and a gross storage of 350 acre-feet; (4) a set of angled trashracks in front of generating units #4 and #5 that are each 15½ foot-high by 28-foot-wide and are comprised of 7 panels with 3.5 inch clear bar spacing; a set of angled trashracks in front of generating units #8 and #9 that are each 15½ foot-high by 24 and ¼ feet-wide and comprised of 6 panels with 3.5-inch clear bar spacing; (5) a 54-foot-long, 29-foot-wide concrete powerhouse containing two turbine/generator units, and a 67-foot-long, 31-foot-wide concrete powerhouse containing two turbine/generator units, with powerhouses integral with the north side of the dam with a total installed capacity of 2.240 MW and a total combined maximum hydraulic capacity of 2,622 cfs, consisting of two 500-HP Kaplan turbines each connected to a 0.458 MW generator, and two 1,130-HP Kaplan turbines each connected to a 0.662 MW generator; (6) a 3-phase 3,000-kVA 4.16/24.9-kV step-up transformer; (7) a 558-foot-long, 24.9-kV transmission line; and (8) appurtenant facilities. As part of a Commission-approved amendment of its current license, the applicant is currently modifying the Menominee development by installing fish passage facilities.

m. A copy of the application is available for review at the Commission in the Public Reference Room or may be viewed on the Commission's Web site at http://www.ferc.gov using the “eLibrary” link. Enter the docket number excluding the last three digits in the docket number field to access the document. For assistance, contact FERC Online Support at FERCOnlineSupport. A copy of the application is also available for inspection and reproduction at the address in item h above.

Register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule:

The application will be processed according to the following revised Hydro Licensing Schedule. Revisions to the schedule may be made as appropriate.

Milestone | Target Date
Filing of recommendations terms and conditions, and prescriptions | August 2015.
Commission issues Environmental Assessment | February 2016.

p. Final amendments to the application must be filed with the Commission no later than 30 days from the issuance date of this notice.

q. A license applicant must file no later than 60 days following the date of issuance of the notice of acceptance and ready for environmental analysis provided for in 5.22: (1) A copy of the water quality certification; (2) a copy of the request for certification, including proof of the date on which the certifying agency received the request; or (3) evidence of waiver of water quality certification.

Dated: June 12, 2015.
Kimberly D. Bose,
Secretary.

[FR Doc. 2015-15097 Filed 6-18-15; 8:45 am]

BILLING CODE 6717-01-P